NUCLEAR REGULATORY COMMISSION

10 CFR Part 71

Regulations for the Safe Transport of Radioactive Material; Solicitation of Proposed Changes

AGENCY: Nuclear Regulatory Commission.

ACTION: Solicitation of proposed changes.

SUMMARY: The U.S. Nuclear Regulatory Commission (NRC) and the U.S. Department of Transportation (DOT) are jointly seeking proposed changes to the International Atomic Energy Agency (IAEA) Regulations for the Safe Transport of Radioactive Material (referred to as TS-R-1). The proposed changes that are submitted by the U.S. and other IAEA member states and International Organizations might necessitate subsequent domestic compatibility rulemakings by both the NRC and the DOT.

DATES: Proposed changes will be accepted until June 7, 2004. Proposed changes received after this date will be considered if it is practical to do so, but the NRC is able to assure consideration only for proposed changes received on or before this date.

ADDRESSES: Mail proposed changes to Michael Lesar, Chief, Rules and Directives Branch, Division of Administrative Services, Office of Administration, U.S. Nuclear Regulatory Commission, Washington, DC 20555-0001.

Hand deliver proposed changes to Two White Flint North, 11545 Rockville Pike (Mail Stop T6D59), Rockville, Maryland 20852, between 7:30 a.m. and 4:15 p.m. Federal workdays.

FOR FURTHER INFORMATION CONTACT: John Cook, Office of Nuclear Materials Safety and Safeguards, U.S. Nuclear Regulatory Commission, Washington, DC 20555-0001, telephone: (301) 415-8521; e-mail: jrc1@nrc.gov.

SUPPLEMENTARY INFORMATION:

Background

The IAEA periodically revises its Regulations for the Safe Transport of Radioactive Material (TS-R-1) to reflect new information and accumulated experience. The DOT is the U.S. competent authority before the IAEA for radioactive material transportation matters. The NRC provides technical support to the DOT in this regard, particularly with regard to Type B and fissile packages.

The IAEA has recently initiated the review cycle for the 2007 edition of TS-R-1. The IAEA's review process calls for Member States and International Organizations to provide proposed changes to the IAEA by July 15, 2004. The objective is publication of revised regulations in 2007, nominally to become effective worldwide in 2009. To assure opportunity for public involvement in the international regulatory development process, the DOT and the NRC are soliciting proposed changes at this time. This information will assist the DOT and the NRC in having a full range of views as the agencies develop the proposed changes the U.S. will submit to the IAEA.

Proposed changes must be submitted in writing (electronic file on disk in Word format preferred) and are to include:

• Name;

• Address;

• Telephone no.;

• Fax no.;

• E-mail address;

• Objective of change/regulatory problem (e.g., a description of the problem being addressed and its consequences);

• Justification for change (e.g., the proposed change maintains safety in transport, is risk-informed, and is effective and efficient (e.g., does not impose an undue burden on shippers or carriers));

• TS-R-1 paragraphs affected (existing text, and proposed new text);

• Modification of or additional guidance material (existing text, and proposed new text); and

• Reference(s) and/or reference material as needed.

The NRC and the DOT will review the proposed changes and rationales received by June 7, 2004. Based in part on the information, the agencies will determine the U.S. proposed changes to be submitted to IAEA by July 15, 2004.

Proposed changes from all Member States and International Organizations will be considered at an IAEA Review Panel Meeting to be convened by IAEA on September 27—October 1, 2004, in Vienna, Austria. Prior to that meeting, the DOT and the NRC anticipate holding a public meeting to solicit comment on all (including U.S.) proposed changes submitted to the IAEA. Note that future domestic rulemakings, if necessary, will continue to follow established rulemaking procedures, including the opportunity to formally comment on proposed rules.

Dated in Rockville, Maryland, this 23rd day of April, 2004.
For the Nuclear Regulatory Commission.
John R. Cook,
Senior Transportation Safety Scientist, Office of Nuclear Material Safety and Safeguards.

[FR Doc. 04-9226 Filed 4-22-04; 8:45 am]

BILLING CODE 7590-01-P